SMALL BUSINESS ADMINISTRATION

[Declaration of Disaster #3347)

State of Texas; (Amendment #4)

In accordance with a notice received from the Federal Emergency Management Agency, dated July 30, 2001, the above-numbered Declaration is hereby amended to extend the deadline for filing applications for physical damages as a result of this disaster to September 7, 2001.

All other information remains the same, i.e., the deadline for filing applications for loans for economic injury is March 8, 2002.

(Catalog of Federal Domestic Assistance Program Nos. 59002 and 59008.)

Dated: August 2, 2001.
Herbert L. Mitchell,
Associate Administrator for Disaster Assistance.

[FR Doc. 01-20323 Filed 8-13-01; 8:45 am]

BILLING CODE 8025-01-P